DEPARTMENT OF HOMELAND SECURITY

Federal Emergency Management Agency

44 CFR Parts 59, 61 and 62

[Docket ID FEMA-2018-0026]

RIN 1660-AA95

National Flood Insurance Program: Conforming Changes To Reflect the Biggert-Waters Flood Insurance Reform Act of 2012 (BW-12) and the Homeowners Flood Insurance Affordability Act of 2014 (HFIAA), and Additional Clarifications for Plain Language; Correction

AGENCY: Federal Emergency Management Agency; DHS.

ACTION: Final rule; correction.

SUMMARY: On July 20, 2020, FEMA published in the Federal Register a final rule revising the National Flood Insurance Program (NFIP) regulations to codify certain provisions of the Biggert-Waters Flood Insurance Reform Act of 2012 and the Homeowner Flood Insurance Affordability Act of 2014, and to clarify certain existing NFIP rules relating to NFIP operations and the Standard Flood Insurance Policy. This final rule provides corrections to those instructions, to be used in lieu of the information published July 20.

DATES: This correction is effective October 1, 2021.

ADDRESSES: The docket for this rulemaking is available for inspection using the Federal eRulemaking Portal at http://www.regulations.gov and can be viewed by following that website's instructions.

FOR FURTHER INFORMATION CONTACT: Kelly Bronowicz, Director, Policyholder Services Division, Federal Insurance and Mitigation Administration, Federal Emergency Management Agency, 400 C Street SW, Washington, DC 20472, (202) 557-9488.

SUPPLEMENTARY INFORMATION: In FR Doc. 2020-09260, beginning on page 43946 in the Federal Register of Monday, July 20, 2020, the following corrections are made:

PART 61—INSURANCE COVERAGE AND RATES

§ 61.6 [Corrected]

1. On page 43958, in the amendment to § 61.6, in “Table 1 to Paragraph (a)—Maximum Amounts of Coverage Available”, the center heading “Bulding Coverage” is corrected to read “Building Coverage”;

Appendix A(1) to Part 61 [Corrected]

2. On page 43968, in the first column, in Appendix A(1) to part 61, article VIII.D.3.c, “If this policy is cancelled pursuant to VIII.D.4.b,” is corrected to read “If this policy is cancelled pursuant to VIII.D.3.b,”;

Appendix A(2) to Part 61 [Corrected]

3. On page 43976, in the second column, in Appendix A(2) to part 61, article VIII.D.3.c, “If this policy is cancelled pursuant to VIII.D.4.b,” is corrected to read “If this policy is cancelled pursuant to VIII.D.3.b,”'

Appendix A(3) to Part 61 [Corrected]

4. On page 43984, in the third column, in Appendix A(3) to part 61, article IX.D.3.c, “If this policy is cancelled pursuant to VIII.D.3.a,” is corrected to read “If this policy is cancelled pursuant to IX.D.3.b,”;

§ 62.6 [Corrected]

5. On page 43986, in the third column, instruction number 18 and the corresponding CFR text is corrected to read as follows:

18. In § 62.6, revise the section heading, redesignate paragraphs (a) and (b) as paragraphs (b) and (c), add new paragraph (a), and revise newly redesignated paragraph (b) introductory text.

The addition and revision read as follows:

§ 62.6 Brokers and agents writing NFIP policies through the NFIP Direct Servicing Agent.

(a) A broker or agent selling policies of flood insurance placed with the NFIP at the offices of its servicing agent must be duly licensed by the state insurance regulatory authority in the state in which the property is located.

(b) The earned commission which will be paid to any property or casualty insurance agent or broker, with respect to each policy or renewal the agent duly procures on behalf of the insured, in connection with policies of flood insurance placed with the NFIP at the offices of its servicing agent, but not with respect to policies of flood insurance issued pursuant to subpart C of this part, will not be less than $10 and is computed as follows:

* * * * *

MaryAnn Tierney,
Acting Deputy Administrator, Federal Emergency Management Agency.

[FR Doc. 2021-02644 Filed 2-17-21; 8:45 am]

BILLING CODE 9111-52-P